DEPARTMENT OF ENERGY

Federal Energy Regulatory Commission

Combined Notice of Filings

Take notice that the Commission has received the following Natural Gas Pipeline Rate and Refund Report filings:

Filings Instituting Proceedings

Docket Numbers: RP11-2570-000.

Applicants: Central New York Oil and Gas, LLC.

Description: Central New York Oil and Gas, LLC submits tariff filing per 154.204: Errata to CNYOG Nonconforming FWSA filing in Docket No. RP11-2552-000, to be effective 10/1/2011.

Filed Date: 09/20/2011.

Accession Number: 20110920-5052.

Comment Date: 5 p.m. Eastern Time on Monday, September 26, 2011.

Docket Numbers: RP11-2571-000.

Applicants: East Cheyenne Gas Storage, LLC.

Description: East Cheyenne Gas Storage, LLC submits tariff filing per 154.203: ECGS Baseline compliance filing to be effective 9/20/2011.

Filed Date: 09/20/2011.

Accession Number: 20110920-5098.

Comment Date: 5 p.m. Eastern Time on Monday, October 03, 2011.

Docket Numbers: RP11-2572-000.

Applicants: Cheniere Creole Trail Pipeline, L.P.

Description: Cheniere Creole Trail Pipeline, L.P. submits tariff filing per 154.204: Semi-Annual Transportation Retainage Adjustment to be effective 11/1/2011.

Filed Date: 09/21/2011.

Accession Number: 20110921-5035.

Comment Date: 5 p.m. Eastern Time on Monday, October 03, 2011.

Any person desiring to intervene or protest in any of the above proceedings must file in accordance with Rules 211 and 214 of the Commission's Regulations (18 CFR 385.211 and § 385.214) on or before 5 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: September 21, 2011.
Nathaniel J. Davis, Sr.,
Deputy Secretary.

[FR Doc. 2011-24741 Filed 9-26-11; 8:45 am]

BILLING CODE 6717-01-P